DEPARTMENT OF TRANSPORTATION

Coast Guard

33 CFR Part 6

Protection and Security of Vessels, Harbors, and Waterfront Facilities

CFR Correction

In Title 33 of the Code of Federal Regulations, parts 1 to 124, revised as of July 1, 2001, § 6.01-4 is corrected to read as follows:

§ 6.01-4 Waterfront facility.

Waterfront facility. “Waterfront facility,” as used in this part, means all piers, wharves, docks, or similar structures to which vessels may be secured and naval yards, stations, and installations, including ranges; areas of land, water, or land and water under and in immediate proximity to them; buildings on them or contiguous to them and equipment and materials on or in them.

[EO 13143, 64 FR 68273, Dec. 6, 1999]

[FR Doc. 02-55521 Filed 9-23-02; 8:45 am]

BILLING CODE 1505-01-D